SURFACE TRANSPORTATION BOARD

[Docket No. FD 36284]

Seven County Infrastructure Coalition—Rail Construction & Operation—in Utah, Carbon, Duchesne, and Uintah Counties, Utah; Correction

AGENCY: Surface Transportation Board.

ACTION: Notice; correction.

SUMMARY: The Surface Transportation Board, Office of Environmental Analysis, published a document in the Federal Register of June 19, 2019, concerning preparation of an environmental impact statement, scheduled scoping meetings, and a request for comments on the draft scope of study. The street address for the first scoping meeting listed was incorrect.

FOR FURTHER INFORMATION CONTACT: Joshua Wayland, Office of Environmental Analysis, Surface Transportation Board, 395 E Street SW, Washington, DC 20423, call the toll-free number at 1-855-826-7596, or visit the Board-sponsored project website at www.uintabasinrailwayeis.com.

SUPPLEMENTARY INFORMATION:

Correction

In the Federal Register of June 19, 2019, in FR Doc. 2019-12836, on page 28612, in the third column, correct the first bullet point under the Public Scoping Meetings caption to read:

• Monday July 15, 2019, 3-5 p.m. at the Ute Tribal Auditorium, 6964 East 1000 South, Fort Duchesne, Utah.

By the Board, Victoria Rutson, Director, Office of Environmental Analysis.
Jeffrey Herzig,
Clearance Clerk.

[FR Doc. 2019-13890 Filed 6-27-19; 8:45 am]

BILLING CODE 4915-01-P